DEPARTMENT OF VETERANS AFFAIRS

[OMB Control No. 2900-0703]

Agency Information Collection (Dependent's Educational Assistance (DEA)) OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 7, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0703” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0703.”

SUPPLEMENTARY INFORMATION:

Title: DEPENDENT'S EDUCATIONAL ASSISTANCE (DEA).

OMB Control Number: 2900-0703.

Type of Review: Revision of a currently approved collection.

Abstract: For the VA Form 22-0703, VA will use the information collected to determine when to begin their payment. It is mandatory VA notify the dependent child under 38 U.S.C. 3512(a) the opportunity to make an election. Under 38 U.S.C. 3512(b) it is not mandatory VA provide spouses the opportunity to make an election, but they may also elect a begin date. An agency may not conduct or sponsor, and a person is not required to respond to a collection of information unless it displays a currently valid OMB control number.

The Federal Register Notice with a 60-day comment period soliciting comments on this collection of information was published at 81 FR 15985 on Wednesday, July 6, 2016.

Affected Public: Individuals or Households.

Estimated Annual Burden: 96 hours.

Estimated Average Burden per Respondent: 15 minutes.

Frequency of Response: One-time during benefit period.

Estimated Number of Respondents: 384 respondents.

By direction of the Secretary.
Cynthia Harvey-Pryor,
Program Specialist, Office of Privacy and Records Management, Department of Veterans Affairs.

[FR Doc. 2016-24155 Filed 10-5-16; 8:45 am]

BILLING CODE 8320-01-P